DEPARTMENT OF LABOR

Employment and Training Administration

[TA-W-39,458]

MacDonald Footwear, Inc.; Custom Shoes of Maine, American Shoe Corporation, Skowhegan, ME; Amended Certification Regarding Eligibility To Apply for Worker Adjustment Assistance

In accordance with section 223 of the Trade Act of 1974 (19 U.S.C. 2273) the Department of Labor issued a Certification of Eligibility to Apply for Worker Adjustment Assistance on March 18, 2002, applicable to workers of MacDonald Footwear, Skowhegan, Maine. The notice was published in the Federal Register on March 29, 2002 (67 FR 15226).

At the request of the State Agency, the Department reviewed the certification for workers of the subject firm. The workers were engaged in the production of hand-sewn shoes.

New information shows that that some workers separated from employment at the subject firm had their wages reported under two separate unemployment insurance (UI) tax accounts for Custom Shoes of Maine and American Shoe Corporation.

Accordingly, the Department is amending the certification to properly reflect this matter.

The intent of the Department's certification is to include all workers of MacDonald Footwear, Inc., Skowhegan, Maine who were adversely affected by increased imports.

The amended notice applicable to TA-W-39,458 is hereby issued as follows:

All workers of MacDonald Footwear, Custom Shoes of Maine, American Shoe Corporation, Skowhegan, Maine, who became totally or partially separated from employment on or after June 1, 2000, through March 18, 2004, are eligible to apply for adjustment assistance under section 223 of the Trade Act of 1974.

Signed at Washington, DC this 14th day of January 2004.
Linda G. Poole,
Certifying Officer, Division of Trade Adjustment Assistance.

[FR Doc. 04-1527 Filed 1-23-04; 8:45 am]

BILLING CODE 4510-30-P